DEPARTMENT OF ENERGY

Federal Energy Regulatory Commission

Combined Notice of Filings

Take notice that the Commission has received the following Natural Gas Pipeline Rate and Refund Report filings:

Docket Number: PR21-56-000.

Applicants: Public Service Company of Colorado.

Description: § 284.123(g) Rate Filing: Big Sandy Fuel Filing effective 9/1/2021 to be effective N/A.

Filed Date: 7/28/21.

Accession Number: 20210728-5071.

Comments Due: 5 p.m. ET 8/18/21.

Docket Numbers: RP21-978-000.

Applicants: Elba Express Company, L.L.C.

Description: § 4(d) Rate Filing: Interim Update of Fuel Retention Rates—2021 to be effective 9/1/2021.

Filed Date: 7/28/21.

Accession Number: 20210728-5016.

Comments Due: 5 p.m. ET 8/9/21.

Docket Numbers: RP21-979-000.

Applicants: El Paso Natural Gas Company, L.L.C.

Description: § 4(d) Rate Filing: Negotiated Rate Agreement Update (Conoco August 21) to be effective 8/1/2021.

Filed Date: 7/28/21.

Accession Number: 20210728-5027.

Comments Due: 5 p.m. ET 8/9/21.

Docket Numbers: RP21-980-000.

Applicants: Whiting Oil and Gas Corporation, Fundare Resources Operating Company, LLC.

Description: Request for Temporary Waiver and Expedited Action of Capacity Release Regulations, et al. of Whiting Oil and Gas Corporation, et al. under RP21-980.

Filed Date: 7/28/21.

Accession Number: 20210728-5029.

Comments Due: 5 p.m. ET 8/9/21.

Docket Numbers: RP21-981-000.

Applicants: Big Sandy Pipeline, LLC.

Description: Compliance filing Big Sandy Fuel Filing effective 9/1/2021 to be effective N/A.

Filed Date: 7/28/21.

Accession Number: 20210728-5064.

Comments Due: 5 p.m. ET 8/9/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 29, 2021.
Debbie-Anne A. Reese,
Deputy Secretary.

[FR Doc. 2021-16602 Filed 8-3-21; 8:45 am]

BILLING CODE 6717-01-P